DEPARTMENT OF THE INTERIOR

Bureau of Land Management

[LLCA930000.L19200000.ET0000.XXX.LRORBX619600]

Notice of Proposed Withdrawal and Notice of Public Meeting; California

AGENCY: Bureau of Land Management, Interior.

ACTION: Notice.

SUMMARY: On behalf of the National Park Service (NPS) and subject to valid existing rights, the Secretary of the Interior proposes to withdraw approximately 22,462 acres of public lands for 20 years from all forms of entry, appropriation, or disposal under the public land laws; from location, entry, and patent under the United States mining laws; and from disposition under all laws pertaining to mineral and geothermal leasing, and mineral materials, and all amendments thereto and to transfer administrative jurisdiction over such lands from the Bureau of Land Management (BLM) to the NPS for administration as part of Joshua Tree National Park (JTNP). This notice temporarily segregates the lands for up to 2 years, gives the public an opportunity to comment on the proposed withdrawal application, and announces the date and time of a public meeting.

DATES: Comments must be received by February 16, 2017. A public meeting on the proposed withdrawal will be held on January 18, 2017 from 6:00 to 9:00 p.m. at UC Riverside Palm Desert, 75080 Frank Sinatra Drive, Palm Desert, California 92211.

ADDRESSES: Comments should be sent to the Superintendent, Joshua Tree National Park, 74485 National Park Drive, Twentynine Palms, California 92277.

FOR FURTHER INFORMATION CONTACT: David Smith, Superintendent, Joshua Tree National Park, 760-367-5502 or Doug Herrema, Field Manager, Bureau of Land Management, Palm Springs South Coast Field Office, 760-833-7100. Persons who use a telecommunications device for the deaf (TDD) may call the Federal Relay Service at 800-877-8339 to contact either of the above individuals. The Service is available 24 hours a day, 7-days a week, to leave a message or question with either of the above individuals. You will receive a reply during normal business hours.

SUPPLEMENTARY INFORMATION: The applicant is the NPS and its petition/application requests that the Secretary of the Interior: (i) Withdraw, subject to valid existing rights, the following public lands adjacent to JTNP from all forms of entry, appropriation, or disposal under the public land laws; from location, entry, and patent under the United States mining laws; and from disposition under all laws pertaining to mineral and geothermal leasing, and mineral materials, and all amendments thereto; and, (ii) transfer jurisdiction over such lands to the NPS for administration as part of JTNP.

All that land situated within the Eagle Mountain Area Segregation boundary, located in Townships 3 and 4 South, Ranges 13, 14, and 15 East, San Bernardino Meridian, Riverside County, California; said boundary more particularly described as follows:

Commencing at the corner of sections 16, 17, 20, and 21 in T. 3 S., R. 15 E., San Bernardino Meridian, on the Joshua Tree National Park Boundary;

Thence, westerly on the line between sections 17 and 20, coincident with said Park boundary, to the ¼ section corner of sections 17 and 20, said corner being the Point Of Beginning;

Thence, leaving said Park boundary, southerly on the north-south centerline of section 20, to the center ¼ section corner;

Thence, westerly on the east-west centerline of section 20, to the ¼ section corner of sections 19 and 20;

Thence, southerly on the line between sections 19 and 20, to the corner of sections 19, 20, 29 and 30;

Thence, westerly on the line between sections 19 and 30, to the ¼ section corner of sections 19 and 30;

Thence, southerly on the north-south centerline of section 30, to the center ¼ section corner;

Thence, westerly on the east-west centerline of section 30, to the center west 1/16 section corner;

Thence, southerly on the north-south centerline of the southwest ¼ of section 30, to the southwest 1/16 section corner;

Thence, westerly on the east-west centerline of the southwest ¼ of section 30, to the south 1/16 section corner of section 30 only, on the range line between Tp. 3 S., Rs. 14 and 15 E.;

Thence, southerly on said range line, to the corner of sections 30 and 31 only, Tp. 3 S., R. 15 E.;

Thence, along the following 19 courses as shown on the map recorded January 4, 1998 in Records of Survey, book 103, pages 76 thru 80, Riverside County, California:

1. North 89°56′01″ East on the line between sections 30 and 31, a distance of 1426.96 feet, to a ¾″ rebar with a 2″ aluminum cap stamped “R.C.E. 30846”, at the west 1/16 section corner of sections 30 and 31;

2. South 0°50′38″ West on the north-south centerline of the northwest ¼ of section 31, a distance of 272.58 feet, to a ¾″ rebar with a 2″ aluminum cap stamped “R.C.E. 30846”;

3. South 82°58′51″ West, a distance of 162.64 feet, to a 2½″ diameter stainless steel post with a brass cap marked “T3S R15E AP8 S31 MWD 1991”;

4. South 50°34′58″ East, a distance of 206.07 feet, to a ¾″ rebar, with a 2″ aluminum cap, stamped “R.C.E. 30846”, at the point of intersection with the north-south centerline of the northwest ¼ of section 31;

5. South 0°50′38″ West on the north-south centerline of the northwest ¼ of section 31, a distance of 906.11 feet, to a ¾″ rebar, with a 2″ aluminum cap, stamped “R.C.E. 30846”, at the northwest 1/16 section corner;

6. North 89°52′22″ East on the east-west centerline of the northwest ¼ of section 31, a distance of 1112.67 feet, to a 2½″ diameter stainless steel post with a brass cap marked “T3S R15E S31 MWD N-N 1991”;

7. South 50°35′17″ East, a distance of 501.65 feet, to a 2½″ diameter stainless steel post with a brass cap marked “T3S R15E AP4 S31 MWD 1991”, being the beginning of a non-tangent curve concave easterly, having a radius of 825.0 feet, to which beginning of curve a radial line bears South 89°13′53″ West;

8. Southerly along said curve through a central angle of 3°58′07″, a distance of 57.14 feet, to a 2½″ diameter stainless steel post with a brass cap marked “T3S R15E AP3 S31 MWD 1991”;

9. South 4°44′14″ East, a distance of 954.13 feet, to a 2½″ diameter stainless steel post with a brass cap marked “T3S R15E S31 MWD C-C 1991”, at the point of intersection with the east-west centerline of section 31;

10. South 89°47′42″ West on the east-west centerline of section 31, a distance of 268.59 feet, to a 2½″ diameter stainless steel post with a brass cap marked “T3S R15E C ¼ S31 1991”, at the center ¼ section corner;

11. Continuing South 89°47′42″ West on the east-west centerline of section 31, a distance of 666.27 feet, to a 2½″ diameter stainless steel post with a brass cap marked “T3S R15E S31 CEW 1/64 1991”, at the center east west 1/64 section corner;

12. South 0°49′44″ West on the north-south centerline of the northeast ¼ of the southwest ¼ of section 31, a distance of 1329.96 feet, to a 2½″ diameter stainless steel post with a brass cap erroneously marked “T3S R15E S31 CE SE 1/64 1991”, at the center east southwest 1/64 section corner;

13. North 89°45′56″ East on the east-west centerline of the southwest ¼ of section 31, a distance of 665.4 feet, to a 2½″ diameter stainless steel post with a brass cap marked “T3S R15E S 1/16 C-C S31 1991”, at the center south 1/16 section corner;

14. North 89°44′23″ East on the east-west centerline of the southeast ¼ of section 31, a distance of 398.72 feet, to a 2½″ diameter stainless steel post with a brass cap marked “T3S R15E MWD S-S S31 1991”;

15. South 4°43′20″ East, a distance of 356.97 feet, to a 2½″ diameter stainless steel post with a brass cap marked “T3S R15E AP2 S31 MWD 1991”;

16. South 12°45′10″ East, a distance of 892.3 feet, to a 2½″ diameter stainless steel post with a brass cap marked “T3S R15E AP1 S31 MWD 1991”;

17. South 5°52′24″ East, crossing the township line between Tps. 3 and 4 S., R. 15 E., a distance of 2621.95 feet, to a 2½″ diameter stainless steel post with a brass cap marked “T4S R15E AP2 S6 MWD 1991” in section 6, Tp. 4 S., R. 15 E.;

18. South 2°12′31″ East, crossing the east-west centerline of section 6, a distance of 1467.27 feet, to a 2½″ diameter stainless steel post with a brass cap marked “T4S R15E AP1 S6 MWD 1991”;

19. South 14°34′05″ West, on the line between a 2½″ diameter stainless steel post with a brass cap marked “T4S R15E AP1 S6 MWD 1991” and a 2½″ diameter stainless steel post with a brass cap marked “T4S R15E AP3 S7 MWD 1991”, a distance of 1292.87 feet, to a ¾″ rebar, with a 2″ aluminum cap, stamped “R.C.E. 30846”, at the point of intersection with the line between sections 6 and 7, from which a 2″ I.P. with partially illegible 2″ bronze tablet stamped “T4S R15E ¼ S6 S7 L.S. 4339” bears North 88°38′08″ West a distance of 765.31 feet, and a 2½″ diameter stainless steel post with a brass cap marked “E 1/16 S6 S7 1991” bears South 88°38′08″ East a distance of 555.26 feet;

Thence, along the following 8 courses as shown on the map recorded January 20, 1994 in Records of Survey, book 95, pages 97 thru 105, Riverside County, California, having a new basis of bearing:

1. Continuing on the line between a 2½″ diameter stainless steel post with a brass cap marked “T4S R15E AP1 S6 MWD 1991” and a 2½″ diameter stainless steel post with a brass cap marked “T4S R15E AP3 S7 MWD 1991”, South 14°09′14″ West, a distance of 392.44 feet, to the 2½″ diameter stainless steel post with a brass cap marked “T4S R15E AP3 S7 MWD 1991”;

2. South 17°42′07″ West, a distance of 2113.85 feet, to the point of intersection with the north-south centerline of section 7;

3. Continuing South 17°42′07″ West, a distance of 133.81 feet, to a 2½″ diameter stainless steel post with a brass cap marked “T4S R15E AP2 S7 MWD 1991”;

4. South 0°37′28″ West, a distance of 1808.72 feet, to a 2½″ diameter stainless steel post with a brass cap marked “T4S R15E AP1 S7 MWD 1991”;

5. South 15°13′54″ West, a distance of 1078.45 feet, to a point of intersection with the line between sections 7 and 18, from which a 2½″ diameter stainless steel post with a brass cap marked “T4S R15E ¼ S7 S18 1991” bears North 88°07′45″ East, a distance of 376.92 feet;

6. South 88°07′45″ West on the line between sections 7 and 18, a distance of 933.31 feet, to a 2½″ diameter stainless steel post with a brass cap marked “T4S R15E W 1/16 S7 S18 1991”, at the west 1/16 section corner of sections 7 and 18;

7. South 0°21'46” West a distance of 5204.46 feet, to a 2” I.P. with brass cap stamped “T4S MWD R15E W 1/16 S18 S19 1992 L.S. 5113”, at the west 1/16 section corner of section 18 and partially unsurveyed section 19;

8. South 86°53'42” West on the line between section 18 and partially unsurveyed section 19, a distance of 1399.76 feet, to a 2” diameter iron post with a brass cap marked “T4S T4S R14E S13 S18 S19 R15E 1956”, at the corner of section 18 and partially unsurveyed section 19 only, T. 4 S., R.15 E.;

Thence, southerly on the range line between partially unsurveyed section 19 and unsurveyed section 24, T. 4 S., Rs. 14 and 15 E., to the ¼ section corner of section 19 only, T. 4 S., R. 15 E.;

Thence, southerly on said range line, to the south south 1/64 section corner of unsurveyed section 24 only, T. 4 S., R. 15 E.;

Thence, westerly on the east-west centerline of the southeast ¼ of the southeast ¼ of unsurveyed section 24, to the center south southeast 1/64 section corner;

Thence, southerly on the north-south centerline of the southeast ¼ of unsurveyed section 24, to the east 1/16 section corner of unsurveyed sections 24 and 25;

Thence, westerly on the line between unsurveyed sections 24 and 25, to a point of intersection with the boundary of Joshua Tree National Park;

Thence, along the following 12 courses coincident with the Joshua Tree National Park boundary as specified in the final legal description of said National Park dated July 18, 1996:

1. Northwesterly, through unsurveyed section 24, to the corner of unsurveyed sections 13, 14, 23 and 24;

2. Northerly on the line between unsurveyed sections 13 and 14, to the corner of sections 11 and 12 and unsurveyed sections 13 and 14;

3. Westerly on the line between section 11 and unsurveyed section 14, to the corner of section 11 and unsurveyed sections 10, 14 and 15;

4. Northwesterly, through unsurveyed section 10, to the corner of unsurveyed sections 3, 4, 9 and 10;

5. Westerly on the line between unsurveyed sections 4 and 9, 5 and 8, and 6 and 7, Tp. 4 S., R. 14 E., and between unsurveyed sections 1 and 12 and 2 and 11, Tp. 4 S., R. 13 E., to the corner of unsurveyed sections 2, 3, 10, and 11;

7. Northwesterly, through unsurveyed section 3, to the ¼ section corner of unsurveyed sections 3 and 4;

8. Northerly between unsurveyed sections 3 and 4, T. 4 S., R. 13 E., and unsurveyed sections 33 and 34, T. 3 S., R. 13 E. to a point parallel with and 30 feet northerly of the centerline of Black Eagle Mine Road;

9. Westerly, changing to northerly, parallel with and 30 feet northerly, changing to easterly, of the centerline of said road following the northern fork towards Mystery Mine, the fork of these roads occurs very close to the section line between unsurveyed sections 33 and 34, to the intersection with the line between unsurveyed sections 16 and 21 on the old Joshua Tree National Monument boundary;

10. Easterly along the Old Joshua Tree National Monument boundary as depicted on the 1977 survey maps 156-41035A between unsurveyed sections 16 and 21, 15 and 22, 14 and 23, and 13 and 24, T. 3 S., R. 13 E., and between section 18 and unsurveyed section 19, section 20 and unsurveyed section 17, unsurveyed sections 16 and 21, 15 and 22, 14 and 23, and 13 and 24, T. 3 S., R. 14 E., to the corner of unsurveyed sections 13 and 24 only;

11. Northerly between section 19, T. 3 S., R. 15 E., and unsurveyed section 13, T. 3 S., R. 14 E., to the corner of section 19 and unsurveyed section 18 only;

12. Easterly between section 19 and unsurveyed section 18 and between sections 17 and 20, T. 3 S., R. 15 E., to the ¼ section corner of sections 17 and 20, said corner being the Point Of Beginning.

Excepting therefrom all privately owned or state school lands with the lands described above.

Said excepted parcels encompass 5,566 acres, more or less.

Also excepting therefrom all the land situated within the project boundary of FERC Project No. 13123 as described in Figure G-1- entitled “Exhibit G-Project Boundary FERC Project No. 13123, Sheet 1, Eagle Mountain Pumped Storage, Eagle Mountain, California, Eagle Crest Energy Company,” dated August 2014 within the sections described below:

T. 3 S., R. 14 E.,

Sections 26, 27, 28, 29, 32, 33, 34, 35, 36

T. 3 S., R. 15 E.,

Section 31

T. 4 S., R. 14 E.,

Sections 1, 2, 4, 11, 12

T. 4 S., R. 15 E.,

Section 6, 7, 18

Said excepted parcels encompass 627 acres, more or less.

The area described above contains approximately 22,462 acres in Riverside County. Records and maps relating to this application can be examined by interested parties at the following locations: NPS, Pacific West Region, 333 Bush Street, Suite 600, San Francisco, California 94104, and BLM, Palm Springs South Coast Field Office, 1201 Bird Center Drive, Palm Springs, California 92262.

The Deputy Secretary of the Interior approved the NPS's petition/application to withdraw the above-described lands. The Deputy Secretary's approval of the application constitutes his proposal to withdraw the subject lands and transfer administrative jurisdiction over them to the NPS for inclusion in and management as part of JTNP.

The purpose of the proposed withdrawal is to transfer administrative jurisdiction of the described public lands from the BLM to the NPS for administration as part of JTNP. These lands were included within the original boundary of the JTNM in 1936, but were removed from the JTNM in 1950 for iron ore development. Most of the lands within the proposed withdrawal boundary are untrammeled and retain the characteristics that led to their inclusion in the original boundary of the former JTNM. In particular, the area contains valuable habitat for desert species, including important habitat linkages for bighorn sheep, and provides landscape scale conservation opportunities.

If transferred, the lands would be included in an expanded national park boundary and administered as part of the JTNP in accordance with the NPS Organic Act and other applicable laws. The Secretary is authorized by 54 U.S.C. 100506(c)(1)(B) to acquire lands adjacent to units of the NPS by transfer from another Federal agency and to expand the park boundary accordingly.

The NPS is preparing a boundary study for JTNP that is related to the proposed withdrawal. The boundary study will explore whether it would be appropriate and feasible to transfer the segregated lands to JTNP and manage them for national park purposes. As part of that process, the NPS is preparing an environmental assessment under the National Environmental Policy Act that will serve as the environmental analysis of boundary alternatives and the proposed withdrawal. The NPS will coordinate public involvement in the boundary study process with public involvement in the proposed withdrawal process to the extent feasible.

The use of a right-of-way, interagency, or cooperative agreement, or surface management by the BLM instead of withdrawal may not adequately constrain nondiscretionary uses which could result in permanent loss of significant values and irreplaceable resources at the site. They also would not transfer jurisdiction over the lands to the NPS for administration as part of JTNP.

Licenses, permits, cooperative agreements, or other discretionary land use authorizations may be allowed with the approval of an authorized officer of the BLM during the temporary segregative period, after coordination with the NPS. The lands included within FERC Project No. 13123, which is licensed by FERC, are not proposed for withdrawal and the Department does not intend to include any additional lands ultimately included in the associated BLM right-of-way in the final withdrawal, if approved.

Subject to analysis under the NEPA, 42 U.S.C. 4321 et seq., the NPS is not aware of any alternatives that would provide protection of the cultural, natural, and scenic resources, and values fundamental to the established purpose of JTNP. At this time, the uses contemplated by the NPS would not require water to fulfill the purposes of the requested withdrawal action.

Comments, including names and street addresses of respondents, will be available for public review on the following Web site http://parkplanning.nps.gov/eaglemountain. Before including your address, phone number, email address, or other personal identifying information in your comment, you should be aware that your entire comment—including your personal identifying information—may be made publicly available at any time. While you can ask us in your comment to withhold your personal identifying information from public review, we cannot guarantee that we will be able to do so.

Notice is hereby given that a public meeting will be held in connection with the proposed withdrawal at the time and location indicated in the DATES section above. A notice about this public meeting will also be published in a local newspaper at least 30 days before the scheduled date of the meeting.

Records relating to the application may be examined by contacting JTNP park superintendent David Smith at 760-367-5502 or BLM Field Manager at 760-833-7100.

For a period until February 16, 2017, all persons who wish to submit comments, suggestions, or objections in connection with the proposed withdrawal may present their views in writing to the JTNP Superintendent or the BLM Field Manager at the ADDRESSES noted above.

For a period until November 19, 2018, the lands described in this notice will be segregated from all forms of entry, appropriation, or disposal under the public land laws; from location, entry, and patent under the United States mining laws; and from disposition under all laws pertaining to mineral and geothermal leasing, and mineral materials, and all amendments thereto, unless the application is denied or canceled or the withdrawal is approved prior to that date. The 2 years also allows time for the NPS to conduct the necessary analyses under FLPMA, the statutes pertaining to the NPS, and the NEPA. It is intended that these analyses will support a final decision on whether to expand the park boundary to complete the proposed withdrawal and to modify accordingly the boundary of JTNP.

The application will be processed in accordance with the regulations set forth in 43 CFR part 2300.

Jerome E. Perez,
State Director, Bureau of Land Management, California.

[FR Doc. 2016-27869 Filed 11-17-16; 8:45 am]

BILLING CODE 4310-40-P